SECURITIES AND EXCHANGE COMMISSION

[File No. 1-14206]

Issuer Delisting; Notice of Application to Withdraw From Listing and Registration on the American Stock Exchange LLC (El Paso Electric Company, Common Stock, No Par Value)

December 18, 2002.

El Paso Electric Company Inc., a Texas corporation (“Issuer”), has filed an application with the Securities and Exchange Commission (“Commission”), pursuant to section 12(d) of the Securities Exchange Act of 1934 (“Act”) ¹ and rule 12d2-2(d) thereunder,² to withdraw its Common Stock, no par value (“Security”), from listing and registration on the American Stock Exchange LLC (“Amex” or “Exchange”).

¹ 15 U.S.C. 781(d).

² 17 CFR 240.12d2-2(d).

The Issuer stated in its application that it has met the requirements of Amex rule 18 by complying with all applicable laws in State of Texas, in which it is incorporated, and with the Amex's rules governing an issuer's voluntary withdrawal of a security from listing and registration.

The Board of Directors (“Board”) of the Issuer unanimously approved a resolution on July 18, 2002, to withdraw the Issuer's Security from listing on the Amex. The Issuer states that trading in the Security on the New York Stock Exchange, Inc. (“NYSE”) began on December 4, 2002. The Issuer's decision to delist from the Amex and to list on the NYSE stems from dissatisfaction with the level of liquidity that has dominated trading on the Amex. The Board therefore believes that delisting its Security from the Amex and listing on the NYSE is in the best interest of the shareholders.

The Issuer's application relates solely to the withdrawal of the Security from listing on the Amex and shall not affect its listing on the NYSE or its obligation to be registered under section 12(g) of the Act.³

³ 15 U.S.C. 781(g).

Any interested person may, on or before January 10, 2003, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority. ⁴
⁴ 17 CFR 200.30-3(a)(1).
Jonathan G. Katz,
Secretary.

[FR Doc. 02-32310 Filed 12-23-02; 8:45 am]

BILLING CODE 8010-01-P